BUREAU OF CONSUMER FINANCIAL PROTECTION

Privacy Act of 1974, as Amended

AGENCY: Bureau of Consumer Financial Protection.

ACTION: Notice of a Revised Privacy Act System of Records.

SUMMARY: In accordance with the Privacy Act of 1974, as amended, the Bureau of Consumer Financial Protection, hereinto referred to as the Consumer Financial Protection Bureau (CFPB or Bureau), gives notice of the establishment of a revised Privacy Act System of Records.

DATES: Comments must be received no later than May 31, 2013. The new system of records will be effective June 10, 2013, unless the comments received result in a contrary determination.

ADDRESSES: You may submit comments by any of the following methods:

• Electronic: privacy@cfpb.gov.

• Mail/Hand Delivery/Courier: Claire Stapleton, Chief Privacy Officer, Consumer Financial Protection Bureau, 1700 G Street NW., Washington, DC 20552.

Comments will be available for public inspection and copying at 1700 G Street, NW., Washington, DC 20552 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The CFPB revises its Privacy Act System of Records Notice (SORN) “CFPB.016—CFPB Advisory Boards and Committees.” In revising this SORN, the CFPB modifies the purpose of the system of records to include the evaluation of potential board or committee members for eligibility to serve on an advisory board or committee to the CFPB (CFPB board or committee). In general, evaluations will consist of three parts: (1) Background checks on potential CFPB board or committee members to verify identity and identify any past or pending civil or criminal actions against such individuals; (2) an assessment of an individual's qualifications for service on a CFPB board or committee, including reviewing the applicant's education, registration in professional societies, work experience, record of performance, publications authored, membership on other boards and committees, professional awards, etc.; and (3) identifying any potential conflicts of interest that may arise from an individual's service on a CFPB board or committee through financial disclosure information, a declaration of desire and eligibility to serve, and lobbyist registration information. In revising this SORN, the CFPB also modifies the method by which records in the system may be retrieved; modifies the system owner address; removes travel records from the categories of records maintained in the system, as these records are accounted for in a government-wide system of records maintained by the General Services Administration; and adds record sources for the system. Additionally, the Bureau adds two new routine uses, which include the disclosure of personally identifiable information (PII) from the system to (1) the U.S. Department of Justice (DOJ) for its use in providing legal advice to the CFPB or in representing the CFPB in a legal proceeding; and (2) appropriate agencies, entities, and persons to the extent necessary to obtain information relevant to making a determination of whether an individual or entity is eligible to serve on a CFPB board or committee. Finally, this revision makes several non-substantive changes to the categories of individuals whose records are maintained in the system and to the categories of records in the system.

The report of the revised system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000,¹ and the Privacy Act, 5 U.S.C. 552a(r).

¹ Although pursuant to Section 1017(a)(4)E, of the Consumer Financial Protection Act, Public Law 111-203, the CFPB is not required to comply with OMB-issued guidance, it voluntarily follows OMB privacy-related guidance as a best practice and to facilitate cooperation and collaboration with other agencies.

The revised system of records entitled “CFPB.016—CFPB Advisory Boards and Committees” is published in its entirety below.

Dated: April 19, 2013.
Claire Stapleton,
Chief Privacy Officer, Bureau of Consumer Financial Protection.

CFPB.016

SYSTEM NAME:

CFPB Advisory Boards and Committees

SYSTEM LOCATION:

Consumer Financial Protection Bureau, 1700 G Street NW., Washington, DC 20552.

CATEGORIES OF INDIVIDUALS COVERED BY THE SYSTEM:

Individuals covered by this system include any individual who has nominated an individual to be on an advisory board or committee to the CFPB (CFPB board or committee), has served as a reference for a CFPB board or committee nominee, or has been nominated to be on a CFPB board or committee, is currently serving on a CFPB board or committee, and/or has served on a CFPB board or committee and is no longer serving. CFPB board and committee alternatives are also included in this system. Individuals covered by this system also include any individual, including the public, who, upon invitation from a CFPB board or committee, provides advice or comments or otherwise interacts with a CFPB board or committee.

CATEGORIES OF RECORDS IN THE SYSTEM:

Information maintained on individuals who are past, present or nominated members of CFPB boards or committees will include: (1) Contact information (e.g., name, business phone number, email address); (2) information relevant to the CFPB's determination of an individual's eligibility for serving on a CFPB board or committee, including but not limited to (a) that individual's date of birth, place of birth, and any prior or pending civil or criminal actions against that individual for the purpose of conducting a background investigation; (b) education, registration in professional societies, work experience, record of performance, publications authored, membership on other boards and committees, professional awards, for purposes of assessing an individual's qualifications for service; (3) financial disclosure information, declaration of desire and eligibility to serve, and lobbyist registrations, for purposes of identifying any potential conflicts of interest that may arise from an individual's service on a CFPB board or committee; (4) names of professional references and notes and records of conversations with those references; and (5) miscellaneous correspondence relating to the above.

Information maintained on experts, consultants, and other members of the public invited to provide advice or comments to a CFPB board or committee or otherwise interact with a CFPB board or committee will include: (1) contact information (e.g., name, business phone number, email address).

AUTHORITY FOR MAINTENANCE OF THE SYSTEM:

Pub. L. No. 111-203, Title X, sections 1011, 1012, 1014, codified at 12 U.S.C. §§ 5491, 5492, 5494.

PURPOSE(S):

The system collects and maintains information on CFPB board or committee nominees and members, and those that may interact with the CFPB regarding the board or committee. The records are used for administration of the committees or boards, including the evaluation of potential board or committee members for eligibility to serve on CFPB board or committee and the preparation of minutes and reports of CFPB board or committee meetings, events, or programs.

ROUTINE USES OF RECORDS MAINTAINED IN THE SYSTEM, INCLUDING CATEGORIES OF USERS AND THE PURPOSES OF SUCH USES:

These records may be disclosed, consistent with the CFPB's Disclosure of Records and Information Rules, promulgated at 12 CFR part 1070 et seq., to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to (a) permit a decision as to access, amendment or correction of records to be made in consultation with or by that agency, or (b) verify the identity of an individual or the accuracy of information submitted by an individual who has requested access to or amendment or correction of records;

(3) To the Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The DOJ for its use in providing legal advice to the CFPB or in representing the CFPB in a proceeding before a court, adjudicative body, or other administrative body, where the use of such information by the DOJ is deemed by the CFPB to be relevant and necessary to the advice or proceeding, and such proceeding names as a party in interest:

(a) The CFPB;

(b) Any employee of the CFPB in his or her official capacity;

(c) Any employee of the CFPB in his or her individual capacity where DOJ has agreed to represent the employee; or

(d) The United States, where the CFPB determines that litigation is likely to affect the CFPB or any of its components;

(7) To the public in the form of names, affiliations, and other pertinent biographical information of board or committee members; and

(8) Appropriate agencies, entities, and persons to the extent necessary to obtain information relevant to making a determination of whether an individual is eligible to serve on a CFPB board or committee.

POLICIES AND PRACTICES FOR STORING, RETRIEVING, ACCESSING, RETAINING, AND DISPOSING OF RECORDS IN THE SYSTEM:

STORAGE:

Paper and electronic records.

RETRIEVABILITY:

Records in this system are retrievable by a variety of fields including, without limitation, the individual's name, address, employer, or by some combination thereof.

SAFEGUARDS:

Access to electronic records is restricted to authorized personnel who have been issued non-transferrable access codes and passwords. Other records are maintained in locked file cabinets or rooms with access limited to those personnel whose official duties require access.

RETENTION AND DISPOSAL:

The CFPB will maintain electronic and paper records indefinitely until the National Archives and Records Administration (NARA) approves the CFPB's records disposition schedule.

SYSTEM MANAGER(S) AND ADDRESS:

Consumer Financial Protection Bureau, Consumer Advisory Board Manager, 1700 G Street NW., Washington, DC 20552.

NOTIFICATION PROCEDURE:

Individuals seeking notification and access to any record contained in this system of records, or seeking to contest its content, may inquire in writing in accordance with instructions appearing in Title 12, Chapter 10 of the CFR, Part 1070, “Disclosure of Records and Information.” Address such requests to: Chief Privacy Officer, Bureau of Consumer Financial Protection, 1700 G Street NW., Washington, DC 20552.

RECORD ACCESS PROCEDURES:

See “Notification Procedures” above.

CONTESTING RECORD PROCEDURES:

See “Notification Procedures” above.

RECORD SOURCE CATEGORIES:

Information in this system is obtained directly from the individual who is the subject of these records, including any individual who has nominated an individual to be on a CFPB board or committee, has served as a reference for a CFPB board or committee nominee, or was has been nominated to be on a CFPB board or committee, is currently serving on a CFPB board or committee, and/or has served on a CFPB board or committee and is no longer serving, as well as board and committee alternatives and any individual who upon invitation from a CFPB board or committee, provides advice or comments on issues or has otherwise interacted with the a CFPB board or committee. Information is also collected, as necessary, from third parties who provide information used by the CPFB to determine an individual's eligibility for serving on a CFPB board or committee.

EXEMPTIONS CLAIMED FOR THE SYSTEM:

None.

[FR Doc. 2013-10204 Filed 4-30-13; 8:45 am]

BILLING CODE 4810-AM-P